DEPARTMENT OF COMMERCE

National Oceanic and Atmospheric Administration

RIN 0648-XA891

Gulf of Mexico Fishery Management Council; Public Meeting

AGENCY: National Marine Fisheries Service (NMFS), National Oceanic and Atmospheric Administration (NOAA), Commerce.

ACTION: Council to convene public meeting.

SUMMARY: The Gulf of Mexico Fishery Management Council (Council) will convene Public Hearings on Amendment 35 to the Reef Fish Fishery Management Plan and Amendment 11 to the Spiny Lobster Fishery Management Plan in the Gulf of Mexico and South Atlantic Regions.

DATES: Public hearings for Amendment 35 (Reef Fish) and Amendment 11 (Spiny Lobster) will be held at nine locations throughout the Gulf of Mexico and Florida Keys from January 9, 2012 through January 24, 2012. The public hearings will begin at 6 p.m. and will conclude no later than 9 p.m. For specific dates, see SUPPLEMENTARY INFORMATION.

ADDRESSES: The public meetings will be held at locations listed in the SUPPLEMENTARY INFORMATION. Council address: Gulf of Mexico Fishery Management Council, 2203 N. Lois Avenue, Suite 1100, Tampa, FL 33607.

FOR FURTHER INFORMATION CONTACT: Dr. Carrie Simmons, Fishery Biologist at Gulf of Mexico Fishery Management Council; telephone: (813) 348-1630.

SUPPLEMENTARY INFORMATION:

Reef Fish Amendment 35

The Council is holding seven public hearings on Amendment 35 to the Reef Fish Fishery Management Plan which modifies the greater amberjack rebuilding plan, adjusts the Stock Annual Catch Limit, and considers commercial and recreational management measures consistent with the modified Stock Annual Catch Limit. These actions are proposed in response to the results from the 2011 Greater Amberjack Stock Assessment which determined the stock is both overfished (population is too low) and undergoing overfishing (rate of removals too high). To achieve the reductions in the Stock Annual Catch Limit the Council is looking at changes to the current recreational minimum size limit and fixed closed seasons. For the commercial sector the Council is looking at adding trip limits and potentially removing the fixed closed season.

Spiny Lobster Amendment 11

The Gulf Council is holding two public hearings on Amendment 11 in the Florida Keys. The purpose of Amendment 11 to the Spiny Lobster Fishery Management Plan is protect threatened and endangered species in a manner that complies with measures established in the 2009 biological opinion and meets the requirements of the Endangered Species Act. The Gulf of Mexico and South Atlantic Fishery Management Councils are considering the following two actions to achieve these goals: (1) Closing areas to either all spiny lobster fishing or the lobster trap fishery to protect threatened corals and (2) Requiring gear markings for spiny lobster trap lines to allow identification of trap lines entangling protected species.

The Public Hearings will begin at 6 p.m. and conclude at the end of public testimony or no later than 9 p.m. at the following locations:

Reef Fish Amendment 35

Monday, January 9, 2012—Hilton Tampa Airport Westshore—2225 North Lois Avenue, Tampa, FL 33607, telephone: (813) 877-6688.

Wednesday, January 11, 2012—Crowne Plaza New Orleans Airport—2829 Williams Boulevard, Kenner, LA 70062, telephone: (504) 467-5611; Hilton Garden Inn Orange Beach Beachfront—23092 Perdido Beach Boulevard, Orange Beach, AL 36561, telephone: (251) 974-1600.

Thursday, January 12, 2012—Four Points by Sheraton, 940 Beach Boulevard, Biloxi, MS 39530, telephone: (228) 546-3100; Hilton Garden Inn Panama City—1101 U.S. Highway 231, Panama City, FL 32405, telephone: (850) 392-1093.

Tuesday, January 17, 2012—Hilton San Luis, 5400 Seawall Boulevard, Galveston Island, TX 77551, telephone: (409) 744-5000.

Wednesday, January 18, 2012—Plantation Suites & Conference Center, 1909 Highway 361, Port Aransas, TX 78379, telephone: (361) 749-3866.

Spiny Lobster Amendment 11

Monday, January 23, 2012—Marathon Government Center, 2798 Overseas Highway, Marathon, FL 33050, telephone: (305) 289-6036.

Tuesday, January 24, 2012—Harvey Government Center, 1200 Truman Avenue, Key West, FL 33040, telephone: (305) 295-4385.

Copies of the documents can be obtained by calling (813) 348-1630.

Special Accommodations

These meetings are physically accessible to people with disabilities. Requests for sign language interpretation or other auxiliary aids should be directed to Kathy Pereira at the Council (see ADDRESSES) at least 5 working days prior to the meeting.

Dated: December 20, 2011.
Tracey L. Thompson,
Acting Director, Office of Sustainable Fisheries, National Marine Fisheries Service.

[FR Doc. 2011-32957 Filed 12-22-11; 8:45 am]

BILLING CODE 3510-22-P